DEPARTMENT OF ENERGY

Federal Energy Regulatory Commission

Combined Notice of Filings

Take notice that the Commission has received the following Natural Gas Pipeline Rate and Refund Report filings:

Filings Instituting Proceedings

Docket Numbers: PR15-37-000.

Applicants: Bay Gas Storage Company, Ltd.

Description: Submits tariff filing per 284.123(b)(2) + (g): Petition for Approval of Rates_6.8.15 to be effective 6/8/2015 Filing Type: 1310.

Filed Date: 6/8/15.

Accession Number: 20150608-5133.

Comments Due: 5 p.m. ET 6/29/15.

284.123(g) Protests Due: 5 p.m. ET 8/7/15.

Docket Numbers: RP15-1055-000.

Applicants: Dominion Transmission, Inc.

Description: § 4(d) rate filing per 154.204: DTI—Dekaflow Transition to be effective 7/11/2015.

Filed Date: 6/10/15.

Accession Number: 20150610-5236.

Comments Due: 5 p.m. ET 6/22/15.

Docket Numbers: RP15-1056-000.

Applicants: Dominion Cove Point LNG, LP.

Description: § 4(d) rate filing per 154.204: DCP—Dekaflow Transition to be effective 7/11/2015.

Filed Date: 6/10/15.

Accession Number: 20150610-5244.

Comments Due: 5 p.m. ET 6/22/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2015.
Kimberly D. Bose,
Secretary.

[FR Doc. 2015-15234 Filed 6-19-15; 8:45 am]

BILLING CODE 6717-01-P